DEPARTMENT OF TRANSPORTATION

Federal Transit Administration

Notice of Granted Buy America Waivers

AGENCY: Federal Transit Administration (FTA), DOT.

ACTION: Notice of granted Buy America waiver.

SUMMARY: The following waiver will permit ticket vending machine manufacturers to install and count as domestic for purposes of the Buy America Act, 49 U.S.C. 5323(j), as implemented by the Federal Transit Administration at 49 CFR part 661, the CashCode BB-10XX, MBB-01XX, MBB-03XX, MBB-04XX Bill Validators (collectively, the “CashCode Bill Validators”). This waiver is valid for a period of two years, or until such time as a domestic source for the product becomes available, whichever occurs first. This notice shall ensure that the public is aware of the waiver. FTA requests that the public notify it if a domestic source for any of the above-listed products becomes available.

FOR FURTHER INFORMATION CONTACT: Jayme L. Blakesley, Attorney-Advisor, Federal Transit Administration, U.S. Department of Transportation, 400 Seventh Street, SW., Room 9316, Washington, DC 20590-0001. E-mail: jayme.blakesley@dot.gov. Telephone: (202) 366-0304.

SUPPLEMENTARY INFORMATION: See waiver below.

Waiver: CashCode BB-10XX, MBB-01XX, MBB-03XX, MBB-04XX Bill Validators

Simcha Bielak, V.P. Sales & Marketing, Crane-CashCode, 553 Basaltic Road, Ontario, Canada L4K 4W8.

Re: Buy America Non-Availability Waiver for the CashCode BB-10XX, MBB-01XX, MBB-03XX, MBB-04XX Bill Validators

Dear Mr. Bielak:

This letter responds to your October 31, 2006, request for a Buy America non-availability waiver for your CashCode BB-10XX, MBB-01XX, MBB-03XX, MBB-04XX Bill Validators (collectively, the “CashCode Bill Validators”), which are manufactured in Canada for use in ticket vending machines.¹ For the reasons below, I have determined that a non-availability waiver is appropriate here.

¹ The coin dispenser at issue here is a low-profile, bulk coin dispensing hopper module, a device able to hold a quantity of coins in a hopper and dispense them for “change,” one-by-one, in a secure and accurate manner upon electronic command.

The Buy America Act requires, with few exceptions, that all steel, iron and manufactured goods used in FTA-funded projects be produced in the United States.² One such exception is that of non-availability—that in some instances steel, iron, and goods produced in the United States are not produced in the United States in sufficient and reasonably available quantities or are not of a satisfactory quality. Therefore, Congress authorized FTA to waive the above requirement and allow, based on non-availability, the use in an FTA-funded project of steel, iron or manufactured goods produced outside the United States.³

² 49 U.S.C. 5323(j).

³ 49 U.S.C. 5323(j)(2)(B).

FTA verified non-availability of the CashCode Bill Validators by publishing the following notice on its Web site— http://www.fta.dot.gov—and the Docket Management System Web site— http://www.dms.dot.gov, Docket No. FTA-2006-26277—and allowing thirty days for public comment:

Crane-CashCode (“CashCode”) has requested a component non-availability waiver for its BB-10XX, MBB-01XX, MBB-03XX, and MBB-04XX Bill Validators (collectively, the “CashCode Bill Validators”), manufactured in Canada for use in ticket vending machines. The CashCode Bill Validators (U.S. Patent Nos. 6,371,473 and 6,296,242) are able to accept, validate, and mechanically escrow up to twenty banknotes of various denominations at a time, can store bills in up to three recycling canisters to be recycled and dispensed or to be routed to a lockable, removable cassette. More information about the CashCode Bill Validators can be accessed on CashCode's Web site at http://www.cashcode.com. CashCode asserts that the CashCode Bill Validators, or their functional equivalent, are not available from a U.S. source. If granted, this waiver would permit ticket vending machine manufacturers to install the CashCode Bill Validators and count them as domestic for purposes of Buy America compliance.

Please note “CashCode Bill Validators” in the subject line and submit comments by close of business December 8, 2006, to jayme.blakesley@dot.gov. For more information on Buy America, please see 49 CFR 661.7(d) and 661.9(d).

Thirty days have passed since publication of the above notice, and no party has indicated that a U.S. manufacturer produces coin dispensing hoppers in sufficient and reasonably available quantities and of a satisfactory quality. Therefore, FTA hereby grants a non-availability waiver for the CashCode Bill Validators for a period of two years, or until such time as a domestic source for this type of unit becomes available, whichever occurs first. This waiver will permit ticket vending machine manufacturers to install the CashCode Bill Validators and count them as domestic for purposes of Buy America compliance.

If you have any questions, please contact Jayme L. Blakesley at (202) 366-0304 or jayme.blakesley@dot.gov.

Sincerely,

David B. Horner,

Chief Counsel,

Federal Transit Administration.

Issued: February 22, 2007.
David B. Horner,
Chief Counsel.

[FR Doc. E7-3591 Filed 2-28-07; 8:45 am]

BILLING CODE 4910-57-P